DEPARTMENT OF DEFENSE

Office of the Secretary

Missile Defense Advisory Committee Closed Meeting

AGENCY: Department of Defense; Missile Defense Agency (MDA).

ACTION: Notice of closed meeting.

SUMMARY: Under the provisions of the Federal Advisory Committee Act of 1972 (5 U.S.C., Appendix, as amended) and the Sunshine in Government Act of 1976 (5 U.S.C. 552b, as amended) and 41 CFR 102-3.150, the Department of Defense announces the following Federal Advisory Committee Meeting of the Missile Defense Advisory Committee.

The need to conduct this meeting was identified less than 15 calendar days prior to the schedule date. As a result, the meeting notice is being published with less than 15 calendar days notice.

DATES: Tuesday, July 15, 2008 (8 a.m. to 3 p.m.)

ADDRESSES: 7100 Defense Pentagon, Washington, DC 20301-7100.

Security clearance and visit requests are required for access.

FOR FURTHER INFORMATION CONTACT: Mr. Al Bready, Designated Federal Officer at mdac@mda.mil, phone/voice mail 703-695-6438, or mail at 7100 Defense Pentagon, Washington, DC 20301-7100.

SUPPLEMENTARY INFORMATION: Purpose of the Meeting: At this meeting, the Committee will receive classified briefings by Missile Defense Agency senior staff, Program Managers, senior Department of Defense leaders, representatives from industry and the Services on the political, technical, and programmatic aspects of developing and deploying space-based sensors and interceptors that could provide for the defense of the U.S. Homeland, deployed forces, allies, and friends from ballistic missile attack.

Agenda: Topics tentatively scheduled for classified discussion include, but are not limited to preparatory work to review the study terms of reference; Defense Support Program; Space based Infrared Radar System; and the Space Tracking and Surveillance System.

Meeting Accessibility: Pursuant to 5 U.S.C. 552b, as amended, and 41 CFR 102-3.155, the Missile Defense Agency has determined that the meeting shall be closed to the public. The Director, Missile Defense Agency, in consultation with the Missile Defense Agency Office of General Counsel, has determined in writing that the public interest requires that all sessions of the committee's meeting will be closed to the public because they will be concerned with classified information and matters covered by section 5 U.S.C. 552b(c)(1).

Committee's Designated Federal Officer: Mr. Al Bready, mdac@mda.mil, phone/voice mail 703-695-6438, or mail at 7100 Defense Pentagon, Washington, DC 20301-7100.

Pursuant to 41 CFR 102-3.105(j) and 102-3.140, and section 10(a)(3) of the Federal Advisory Committee Act of 1972, the public or interested organizations may submit written statements to the membership of the Missile Defense Advisory Committee about its mission and functions. Written statements may be submitted at any time or in response to the stated agenda of a planned meeting of the Missile Defense Advisory Committee.

All written statements shall be submitted to the Designated Federal Officer for the Missile Defense Advisory Committee, in the following formats: one hard copy with original signature and one electronic copy via e-mail (acceptable file formats: Adobe Acrobat PDF, MS Word or MS PowerPoint), and this individual will ensure that the written statements are provided to the membership for their consideration. Contact information for the Designated Federal Officer is as stated above and can also be obtained from the GSA's Federal Advisory Committee Act Database— https://www.fido.gov/facadatabase/public.asp.

Statements being submitted in response to the agenda mentioned in this notice must be received by the Designated Federal Officer at the address listed at least five calendar days prior to the meeting which is the subject of this notice. Written statements received after this date may not be provided to or considered by the Missile Defense Advisory Committee until its next meeting. The Designated Federal Officer will review all timely submissions with the Missile Defense Advisory Committee Chairperson and ensure they are provided to all members of the Missile Defense Advisory Committee before the meeting that is the subject of this notice.

Dated: July 11, 2008.
Patricia L. Toppings,
OSD Federal Register Liaison Officer, Department of Defense.

[FR Doc. E8-16410 Filed 7-17-08; 8:45 am]

BILLING CODE 5001-06-P